DEPARTMENT OF AGRICULTURE

National Agricultural Statistics Service

Notice of Intent To Seek Approval To Revise and Extend a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Agricultural Resources Management Survey (ARMS), phases 1 and 2 as well as Chemical Use Surveys. All phases of the Agricultural Resources Management Survey(s) are included in the current OMB Control Number 0535-0218, but this information collection renewal request will only include the ARMS phases 1 and 2 as well as Chemical Use Surveys. The ARMS phase 3 and cooperator funded chemical use surveys will be moved to two new information collection requests. Splitting these surveys across multiple information collections will allow USDA and cooperators more flexibility for changes to best address current trends in the farming industry. A revision to burden hours will be needed due to this separation as well as changes in the size of the target population, sampling design, and/or questionnaire length.

DATES: Comments on this notice must be received by February 1, 2022 to be assured of consideration.

ADDRESSES: You may submit comments, identified by docket number 0535-0218, by any of the following methods:

• Email: ombofficer@nass.usda.gov. Include docket number above in the subject line of the message.

• eFax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-4333. Copies of this information collection and related instructions can be obtained without charge from David Hancock, NASS—OMB Clearance Officer, at (202) 690-2388 or at ombofficer@nass.usda.gov.

SUPPLEMENTARY INFORMATION:

Title: Agricultural Resources Management Survey and Chemical Use Surveys.

OMB Control Number: 0535-0218.

Expiration Date of Current Approval: November 30, 2023.

Type of Request: Intent to revise and extend a currently approved information collection.

Abstract: The Agricultural Resource Management Survey(s) (ARMS) are the primary source of information for the U.S. Department of Agriculture on a broad range of issues related to: Production practices, costs and returns, pest management, chemical usage, and contractor expenses. Data are collected on both a whole farm level and on selected commodities. Historically, the ARMS docket contained a screening phase, a chemical use phase and an economic phase. In addition, it contained chemical use surveys for fruits and vegetables along with specialty surveys conducted through External Project Agreements (EPA). This Notice and information collection will focus on the ARMS phases 1 and 2—the screening, production practices, as well as chemical use surveys.

The combined ARMS surveys are the only source of information available for objective evaluation of many critical issues related to economics, chemical usage, and cropping practices. Breaking these surveys into separate OMB approvals will assist in making timely updates to questionnaires to keep in touch with an ever changing industry.

Cost of Production: A Congressional mandate exists for the development of annual estimates of the cost of producing wheat, feed grains, cotton, and dairy commodities. USDA also collects cost of production data for soybeans, rice, peanuts, hogs, and beef cow-calf in order to provide economic information for comparison among the major farm commodities that compete for U.S. agricultural resources. The economic data collection and publication for the cost of production surveys will be included under a new, separate OMB approval.

Chemical Use Surveys: Congress has mandated that NASS and ERS build nationally coordinated databases on agricultural chemical use and related farm practices; these databases are the primary vehicles used to produce specified environmental and economic estimates. The surveys will help provide the knowledge and technical means for producers and researchers to address on-farm environmental concerns in a manner that maintains agricultural productivity.

The commodities that are scheduled to be included in this approval are in the following table.

Chemical Use Target Commodities 2022-2024
Year | Survey | Target commodity
2022 | Integrated Screening | ARMS phases 2 & 3 Plus Chemical Use.
| ARMS phase 2 (PPCR) | wheat.
| ARMS phase 2 (PPR) | potatoes.
| Chemical Use | vegetables.
2023 | ARMS phase 1 | ARMS phases 2 & 3.
| ARMS phase 2 (PPCR) | soybeans, oats, peanuts.
| ARMS phase 2 (PPR) | none.
| Chemical Use | fruit.
2024 | Integrated Screening | ARMS phases 2 & 3 plus Chemical Use.
| ARMS phase 2 (PPCR) | TBD.
| ARMS phase 2 (PPR) | TBD.
| Chemical Use | vegetables.
PPCR—Production Practices and Costs Report.
PPR—Production Practices Report.

Authority: These data will be collected under the authority of 7 U.S.C. 2204(a). Individually identifiable data collected under this authority are governed by section 1770 of the Food Security Act of 1985, 7 U.S.C. 2276, which requires USDA to afford strict confidentiality to non-aggregated data provided by respondents. This Notice is submitted in accordance with the Paperwork Reduction Act of 1995 (at 44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: Public reporting burden for this collection of information is estimated to average approximately 14 minutes per response.

Respondents: Farmers, ranchers, farm managers, farm contractors, and farm households.

Estimated Number of Respondents: Approximately 112,000 respondents will be sampled each year. Less than 20 percent of these respondents will be contacted more than one time in a single year for the surveys in this docket.

Estimated Total Annual Burden on Respondents: Approximately 45,000 hours per year.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, November 10, 2021.
Kevin L. Barnes,
Associate Administrator.

[FR Doc. 2021-26275 Filed 12-2-21; 8:45 am]

BILLING CODE 3410-20-P